DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Dates and Times:

Wednesday, November 13, 2019: 9:00 a.m.-5:30 p.m.

Thursday, November 14, 2019: 8:30 a.m.-3:00 p.m.

Place: Centers for Disease Control and Prevention, National Center for Health Statistics, 3311 Toledo Road, Auditorium, Hyattsville, Maryland 20782.

Status: Open.

Purpose: At the November 13-14, 2019 meeting, the Committee will deliberate draft recommendations for the HHS Secretary, continue with activities outlined in the NCVHS 2019 workplan, and hold discussions on several health data policy topics.

Anticipated action items during this meeting include a letter that outlines recommendations to the Secretary regarding preparations for implementation of ICD-11 and accompanying proposed research and communication agendas developed by the Committee.

The Subcommittee on Standards will report on continued progress on the elements of a Predictability Roadmap in follow up to its July 2019 visioning meeting and December 2018 hearing—including continued focus on the function and purpose of the Designated Standards Maintenance Organizations (DSMOs) in light of changes in the health care standards environment and the need for harmonization of administrative and clinical standards. The Subcommittee anticipates continuing discussion and possible activities in collaboration with the Office of the National Coordinator for Health Information and Technology (ONC) regarding the opportunity for burden reduction through convergence of administrative and clinical data standards using the prior authorization transaction as a use-case.

The Subcommittee on Privacy, Confidentiality and Security will lead a discussion of the full Committee on assessing priority areas for focus and activity. The Subcommittee on Population Health will lead discussion on the Federal Data Strategy Year One Action Plan. Finally, the Committee will consider and discuss its workplan for calendar year 2020 together with the NCVHS Strategic Plan.

The times and topics are subject to change. Please refer to the posted agenda for any updates.

Contact Person For More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website: www.ncvhs.hhs.gov, where further information including an agenda and instructions to access the broadcast of the meeting will also be posted.

Should you require reasonable accommodation, please contact the CDC Office of Equal Employment Opportunity on (770) 488-3210 as soon as possible.

Dated: September 24, 2019.
Sharon Arnold,
Associate Deputy Assistant Secretary for Planning and Evaluation, Science and Data Policy, Office of the Assistant Secretary for Planning and Evaluation.

[FR Doc. 2019-21074 Filed 9-27-19; 8:45 am]

BILLING CODE 4150-05-P